DEPARTMENT OF COMMERCE

Foreign-Trade Zones Board

Foreign-Trade Zone 64—Jacksonville, FL; Site Renumbering Notice

FTZ 64 was approved by the FTZ Board (the Board) on December 29, 1980 (Board Order 170, 46 FR 1330, 01/06/81) and expanded on September 20, 1985 (Board Order 312, 50 FR 40209, 10/02/85), on December 24, 1986 (Board Order 337, 52 FR 1214, 01/12/87), on October 29, 1991 (Board Order 540, 56 FR 56627, 11/06/91), and on October 7, 2008 (Board Order 1579, 73 FR 61781, 10/17/08).

FTZ 64 currently consists of 7 “sites” totaling some 1,378 acres in the Jacksonville, Florida area. The current update does not alter the physical boundaries that have previously been approved, but instead involves an administrative renumbering of existing Site 3 to separate unrelated, non-contiguous sites for record-keeping purposes.

All sites are located in Jacksonville, Florida. Under this revision, the site list for FTZ 64 will be as follows: Site 1 (67 acres)—within the Jacksonville International Airport at Pecan Park and Terrell Roads; Site 2 (43 acres)—warehouse facility located at 2201 North Ellis Road; Site 3 (809 acres)—JPA Blount Island Terminal Complex, 9620 Dave Rawls Boulevard; Site 4 (200 acres)—within the International Tradeport Complex on Airport Road; Site 5 (4 acres)—warehouse facility located at 1505 Dennis Street; Site 7 (47 acres)—warehouse facility located at the Westlake Industrial Park, 9767 Pritchard Road; Site 8 (75 acres)—located at One Imeson Park Boulevard, within the central western portion of the Imeson International Industrial Park; and, Site 9 (133 acres)—JPA Talleyrand Docks and Terminal Facility, at 2085 Talleyrand Avenue. Site 6 has expired.

For further information, contact Maureen Hinman at Maureen.Hinman@trade.gov or (202) 482-0627.

Dated: May 20, 2010.
Andrew McGilvray,
Executive Secretary.

[FR Doc. 2010-13056 Filed 5-28-10; 8:45 am]

BILLING CODE P